DEPARTMENT OF COMMERCE

Foreign-Trade Zones Board

[B-53-2023]

Foreign-Trade Zone 124; Application for Expansion of Subzone 124A; Valero Refining—New Orleans L.L.C.; Destrehan, Louisiana

An application has been submitted to the Foreign-Trade Zones (FTZ) Board by the Port of South Louisiana, grantee of FTZ 124, requesting an expansion of Subzone 124A on behalf of Valero Refining—New Orleans L.L.C. The application was submitted pursuant to the provisions of the Foreign-Trade Zones Act, as amended (19 U.S.C. 81a-81u), and the regulations of the FTZ Board (15 CFR part 400). It was formally docketed on October 5, 2023.

The applicant is requesting authority to expand Subzone 124A to include a new site located at 11842 River Road in St. Rose (Site 2, 2.63 acres). No authorization for additional production activity has been requested at this time.

In accordance with the FTZ Board's regulations, Camille Evans of the FTZ Staff is designated examiner to review the application and make recommendations to the FTZ Board.

Public comment is invited from interested parties. Submissions shall be addressed to the FTZ Board's Executive Secretary and sent to: ftz@trade.gov. The closing period for their receipt is November 21, 2023. Rebuttal comments in response to material submitted during the foregoing period may be submitted during the subsequent 15-day period to December 6, 2023.

A copy of the application will be available for public inspection in the “Online FTZ Information Section” section of the FTZ Board's website, which is accessible via www.trade.gov/ftz.

For further information, contact Camille Evans at Camille.Evans@trade.gov.

Dated: October 5, 2023.
Elizabeth Whiteman,
Executive Secretary.

[FR Doc. 2023-22484 Filed 10-11-23; 8:45 am]

BILLING CODE 3510-DS-P